FEDERAL COMMUNICATIONS COMMISSION

[Report No. AUC-00-33-E (Auction No. 33); DA 00-1558]

Auction of Guard Band Manager Licenses for the 700 MHz Bands Updated Attachments and Filing Deadlines Reminder; Additional Due Diligence Information

AGENCY: Federal Communications Commission.

ACTION: Notice.

SUMMARY: This document amends two of the attachments previously provided in the Auction No. 33 Announcing Public Notice for the upcoming auction of Guard Band Manager licenses in the 700 MHz bands (“Auction No. 33”) scheduled to commence on September 6, 2000. This document also provides additional due diligence information.

DATES: Auction No. 33 is scheduled for September 6, 2000.

FOR FURTHER INFORMATION CONTACT: Howard Davenport, Attorney, Auctions Legal Branch at (202) 418-0660, or Linda Sanderson, Project Manager, Auctions Operations Branch at (717) 338-2888.

SUPPLEMENTARY INFORMATION: This is a summary of a Public Notice released July 12, 2000. The complete text of the public notice, including Attachments C and H, is available for inspection and copying during normal business hours in the FCC Reference Center (Room CY-A257), 445 12th Street, SW., Washington, D.C. It may also be purchased from the Commission's copy contractor, International Transcription Services, Inc. (ITS, Inc.) 1231 20th Street, NW, Washington, D.C. 20036, (202) 857-3800. It is also available on the Commission's web site at http://www.fcc.gov.

List of Attachments available at the FCC:

Attachment C—Electronic Filing and Review of the FCC Form 175

Attachment H—Accessing the FCC Network to File FCC Form 175

1. The Wireless Telecommunications Bureau (“Bureau”) issued a Public Notice that set forth the filing requirements, minimum opening bids, and other procedural matters to govern Auction No. 33. See Auction of Licenses for the 700 MHz Guard Bands, Scheduled for June 14, 2000, Auction Notice and Filing Requirements for 104 Licenses in the 700 MHz Guard Band, Minimum Opening Bids and Other Procedural Issues, Public Notice, DA 00-781, 65 FR 21182, (April 20, 2000), (“Auction No. 33 Announcing Public Notice”). Effective Monday, July 17, 2000, the Bureau will permit the filing of FCC Forms 175 (“short-form applications”) via the Internet. As a result, two of the attachments previously provided in the Auction No. 33 Announcing Public Notice have been updated. Specifically, the Bureau has amended Attachment C and Attachment H.

2. As a reminder, the filing deadlines associated with Auction No. 33 are listed below:

Opening of the FCC Form 175 Filing Window—July 18, 2000; 12:00 noon ET

Filing Deadline for FCC Form 175—August 1, 2000; 6:00 PM ET

Upfront Payment Deadline—August 18, 2000; 6:00 PM ET

Deadline For Remote Bidding Software Orders—August 21, 2000; 6:00 PM ET

Mock Auction—August 31, 2000

Auction Start Date—September 6, 2000

Due Diligence Information

3. The Bureau also provides the following additional due diligence information to supplement the information included in the Auction No. 33 Announcing Public Notice. In addition to the filings listed in the Auction No. 33 Announcing Public Notice, potential bidders should also be aware of a Petition For Review of the 700 MHz Second Report and Order, filed in the United States Court of Appeals for the District of Columbia Circuit. The case is FreeSpace Communications, L.L.C. v. FCC, Case No. 00-1164 (DC Circuit filed April 18, 2000). See, Service Rules for the 746-764 and 776-794 MHz Bands, and Revisions to Part 27 of the Commission's Rules, WT Docket No. 99-168, Second Report and Order, 65 FR 17594 (April 4, 2000).

4. This information was compiled as of July 11, 2000 and supplements the list in the Auction No. 33 Announcing Public Notice, which was compiled as of April 10, 2000. This list is subject to additional supplementation. The Commission makes no representation that the April 10, 2000 compilation and the July 11, 2000 supplement include every proceeding pending as of July 11, 2000 relevant to the 700 MHz Guard Band licenses or licensees. Potential bidders are strongly encouraged to conduct their own research prior to Auction No. 33 in order to determine the existence of pending proceedings that might affect their decisions regarding participation in the auction. Participants in Auction No. 33 are strongly encouraged to continue such research during the auction.

Federal Communications Commission.
Margaret W. Wiener,
Deputy Chief, Auctions and Industry Analysis Division, Wireless Telecommunications Bureau.

[FR Doc. 00-18444 Filed 7-19-00; 8:45 am]

BILLING CODE 6712-01-P